DEPARTMENT OF COMMERCE

Foreign-Trade Zones Board

[S-266-2019]

Foreign-Trade Zone 31—Granite City, Illinois; Application for Subzone; Walgreen Co.; Mt. Vernon, Illinois

An application has been submitted to the Foreign-Trade Zones Board (the Board) by America's Central Port District, grantee of FTZ 31, requesting subzone status for the facility of Walgreen Co., located in Mt. Vernon, Illinois. The application was submitted pursuant to the provisions of the Foreign-Trade Zones Act, as amended (19 U.S.C. 81a-81u), and the regulations of the Board (15 CFR part 400). It was formally docketed on December 26, 2019.

The proposed subzone (22.95 acres) is located at 5100 Lake Terrace Drive, Mt. Vernon. No authorization for production activity has been requested at this time. The proposed subzone would be subject to the existing activation limit of FTZ 31.

In accordance with the Board's regulations, Elizabeth Whiteman of the FTZ Staff is designated examiner to review the application and make recommendations to the Executive Secretary.

Public comment is invited from interested parties. Submissions shall be addressed to the Board's Executive Secretary and sent to: ftz@trade.gov. The closing period for their receipt is February 12, 2020. Rebuttal comments in response to material submitted during the foregoing period may be submitted during the subsequent 15-day period to February 27, 2020.

A copy of the application will be available for public inspection in the “Reading Room” section of the Board's website, which is accessible via www.trade.gov/ftz.

For further information, contact Elizabeth Whiteman at Elizabeth.Whiteman@trade.gov or (202) 482-0473.

Dated: December 26, 2019.
Andrew McGilvray,
Executive Secretary.

[FR Doc. 2019-28331 Filed 1-2-20; 8:45 am]

BILLING CODE 3510-DS-P